DEPARTMENT OF AGRICULTURE

Food and Nutrition Service

Agency Information Collection Activities: Proposed Collection; Comment Request—Supplemental Nutrition Assistance Program (SNAP) Employment and Training Study

AGENCY: Food and Nutrition Service (FNS), USDA.

ACTION: Notice.

SUMMARY: In accordance with the Paperwork Reduction Act of 1995, this notice invites the general public and other public agencies to comment on the proposed information collection. This is a new collection for the Supplemental Nutrition Assistance Program (SNAP) Employment and Training (E&T) Study.

ADDRESSES: Comments are invited on: (a) Whether the proposed collection of information is necessary for the proper performance of Agency functions, including whether the information shall have practical utility; (b) the accuracy of the Agency's estimated burden of the proposed information collection, including the validity of the methodology and assumptions that were used; (c) ways to enhance the quality, utility, and clarity of the information to be collected; and (d) ways to minimize the burden of the information collection on respondents, including use of appropriate automated, electronic, mechanical, or other technological methods of data collection.

Written comments may be sent to: Richard Lucas, Office of Policy Support, Food and Nutrition Service, USDA, 3101 Park Center Drive, Room 1014, Alexandria, VA 22302. Comments may also be submitted via fax to the attention of Richard Lucas at 703-305-2576 or via email to Richard.Lucas@fns.usda.gov.

Comments will also be accepted through the Federal eRulemaking Portal. Go to http://www.regulations.gov, and follow the online instructions for submitting comments electronically.

DATES: Written comments must be received on or before September 15, 2014.

FOR FURTHER INFORMATION CONTACT: To request more information on the proposed project or to obtain a copy of the data collection plans, contact Richard Lucas, Office of Policy Support, Food and Nutrition Service, USDA, 3101 Park Center Drive, Room 1014, Alexandria, VA 22302. Comments may also be submitted via fax to the attention of Richard Lucas at 703-305-2576 or via email to Richard.Lucas@fns.usda.gov.

SUPPLEMENTARY INFORMATION: Title: Supplemental Nutrition Assistance Program (SNAP) Employment and Training Study

Form Number: N/A.

OMB Number: 0584-NEW.

Expiration Date: Not yet determined.

Type of Request: New collection.

Abstract: The Supplemental Nutrition Assistance Program (SNAP) serves as a safety net for families who are having difficulty obtaining adequate nutrition. The U.S. Department of Agriculture's Food and Nutrition Service (FNS), which administers SNAP, also administers the SNAP Employment and Training (E&T) Program to assist members of households participating in SNAP in gaining skills, training or experience to “increase their ability to obtain regular employment” (Food Security Act of 1985). Congress established the SNAP Employment and Training program through the Food Security Act of 1985.

Of the 47 million people who received SNAP benefits in fiscal year 2013, 13.3 million were designated as work registrants (they were not federally exempt from SNAP work requirements and subject to mandatory participation in an E&T program ¹), and about 629,000 people actually participated in an E&T program.

¹ Federally exempt individuals include those who are younger than 16 or older than 59, disabled, working 30 hours a week or taking part in another work program, receiving unemployment, caring for an incapacitated adult or a child under age 6, in a drug or alcohol treatment program, or enrolled at least half time in school.

It has been 20 years since FNS sought information about the characteristics of work registrants, E&T participants, and the providers that serve them. This nationally representative study will identify the characteristics of registrants and participants, the challenges they face and the E&T services available to SNAP participants. The information generated will help FNS understand how these programs serve clients, what participants need to develop their skills, and whether current programs meet clients' needs.

This study has three objectives: (1) To provide FNS with a detailed description of the characteristics of SNAP work registrants and SNAP E&T participants; (2) to describe the needs and challenges faced by registrants and participants in finding and retaining employment in the changing economy; and (3) to describe the characteristics of the E&T service providers and the types of services available to participants. To meet these objectives, data will be collected from two sources:

• Surveys. A nationally representative sample of SNAP work registrants and E&T participants, along with a sample of E&T providers, will be surveyed for the study. Twenty-five states were randomly sampled using a stratified probability proportional to size (or PPS) sampling design for national representativeness.

Data on the number of work registrants and E&T participants by state as of fiscal year 2013 were used to create a composite size measure for sampling (measure of size). States with a measure of size large enough to be included in the sample of 25 states with probability of one were called “certainty states” and were automatically included in the sample. The remaining states were selected based on their measure of size and type of work activities offered by the E&T programs.

A total of 3,000 survey interviews (1,500 work registrants and 1,500 E&T participants) are planned from across the 25 states. A target number of interviews will be assigned to each state based on the state's share of the work registrant and E&T participant populations. Sampled individuals will be surveyed by telephone or online about their experiences in SNAP and the E&T program. SNAP work registrants and E&T participants will receive an advance letter about the survey instructing them to take the survey online or to call to complete the survey by phone. The survey will take 20 minutes to complete. Follow-up letters throughout the 10-week survey period will be sent to people who have not responded, including a “time is running out” letter with a $5 pre-incentive in week seven. Respondents will receive a $40 incentive if they complete the interview online or initiate and complete the interview by phone. They will receive a $20 incentive if the evaluator initiates the call and the respondent completes the interview by phone.

For the SNAP E&T provider survey, providers will be randomly sampled from across the 25 states after the E&T participant sample is selected. The providers will be limited to those serving the areas in which the SNAP E&T sample resides. The provider survey will describe the characteristics of providers and the services they offer, as well as the types of skills E&T participants have and how those skills match the skills needed by employers in the area. The provider survey will be conducted online and will take about 15 minutes to complete.

Providers will be able to complete the survey by telephone, if necessary, and will not be offered an incentive.

• Focus groups. Fifteen focus groups with about 8 SNAP E&T participants each (a total of 120 participants) will be conducted in five states. The focus group locations will be selected to represent variation in geography and type of program. Participants in the focus groups will be selected using administrative data and will represent a broad range of demographic characteristics. The focus group discussions, which will last about 90 minutes, will delve into detail about participants' experiences with SNAP E&T, and will provide a better understanding of participants' skill sets, training needs and barriers to education, training and employment. All participants will receive a $25 stipend for participation and transportation.

Tailored instruments with simple and respondent-friendly language will be used for the survey and focus groups. Responses to all questions will be voluntary. The contractor will follow two rules to ensure that respondent data are treated confidentially: (1) No data will be released in a form that identifies individual respondents by name, and (2) information collected through interviews will be combined across other respondents in the same category and reported only in aggregate form. Respondents will be notified of these confidentiality rules during data collection. All data will be recorded on a password-protected laptop. At the end of each session, the recordings will be sent to a data transcription service via a secure file transfer protocol (FTP) site. All recordings and transcripts will be stored on a 256-bit encrypted secure server and available only to those with a valid user identification and password.

Other data collections will include the use of state administrative data to examine characteristics of work registrants and E&T participants. This data will also be used to create the sampling frames for the surveys and focus groups.

Affected Public:

Members of the public affected by the data collection include individuals and households. Respondent groups identified include (1) SNAP work registrants, (2) SNAP E&T participants, and (3) SNAP E&T providers.

Estimated Number of Respondents:

The study will include 5,206 people across 25 states (see table below). Of those, an estimated 1,586 will likely refuse to respond, will be ineligible or will not show up for a focus group. An estimated 3,620 people will participate in the study or focus groups (1,500 work registrants; 1,620 E&T participants (1,500 for the survey and 120 for the focus groups); and 500 E&T providers).

Estimated Number of Responses per Respondent:

Each respondent in the work registrant survey, E&T participant survey, provider survey and focus group will provide one response.

Estimated Time per Response:

For the work registrant and participant surveys, the burden estimate for each respondent is 0.42 hours (25 minutes), including time to read the advance letter and complete the survey. For survey nonrespondents, the burden estimate is 0.08 hours (5 minutes), including time to read the advance letter and field a call regarding the survey. For the SNAP E&T provider survey, the burden estimate is 0.33 hours (20 minutes) for each respondent, including time to read the advance letter and complete the survey. For provider survey nonrespondents, the burden estimate is 0.08 hours (5 minutes), including time to read the advance letter and field a call regarding the survey. For all participants in the focus groups, the burden estimate is 1.67 hours (100 minutes). This includes eligibility screening, receiving a reminder call, reading a reminder letter and participating in the group. For all those who decline to participate in the focus groups, the burden estimate is 0.08 hours (5 minutes), including the time to be screened (see the table below).

Estimated Total Annual Burden on Respondents and Nonrespondents: SNAP work registrants, E&T participants, and providers will be interviewed or will participate in a focus group only once. Thus, the total hours for this effort is 1,748.9, including 625 hours for respondents to the SNAP work registrant survey and 39.5 hours for nonrespondents; 625 hours for the SNAP E&T participant survey and 39.5 hours for nonrespondents; 166.7 hours for respondents to the SNAP E&T provider survey and 13.2 hours for nonrespondents; and 200 hours for the focus group participants and 40 hours for the nonparticipants. The number of survey nonrespondents is based on the assumption that the sample will contain 1,974 people for each group (work registrants and E&T participants) and 658 providers, of which 95 percent will be eligible for the survey, and 80 percent of those will complete the survey. The burden for E&T participants in the focus groups is estimated at 200 hours; for people who elect not to participate in the focus groups (nonparticipants), the estimated total burden is 40 hours.

The number of nonparticipants is based on the assumption that to have 120 people attend the focus groups, 300 people need to be recruited. To recruit 300 people, twice as many, or 600, will need to be contacted initially (five-to-one ratio).

Affected public | Respondent type | Estimated number of respondents | Responses annually per respondent | Total annual responses | Estimated average number of hours per response | Estimated total hours
Individuals & households | SNAP work registrants survey respondents ᵃ | 1,500 | 1 | 1,500 | 0.42 (25 minutes) | 625.0
| SNAP work registrant survey nonresponders ᵃ | 474 | 1 | 474 | 0.08 (5 minutes) | 39.5
| SNAP E&T participant survey respondents ᵃ | 1,500 | 1 | 1,500 | 0.42 (25 minutes) | 625.0
| SNAP E&T participant survey nonresponders ᵃ | 474 | 1 | 474 | 0.08 (5 minutes) | 39.5
| SNAP E&T provider survey respondents ᵃ | 500 | 1 | 500 | 0.33 (20 minutes) | 166.7
| SNAP E&T provider survey nonresponders ᵃ | 158 | 1 | 158 | 0.08 (5 minutes) | 13.2
| SNAP E&T focus group participants ᵇ | 120 | 1 | 120 | 1.67 (100 minutes) | 200.0
| SNAP E&T focus group nonparticipants ᶜ | 480 | 1 | 480 | 0.08 (5 minutes) | 40.0
Total |  | 5,206 |  | 5,206 |  | 1,748.9
ᵃ An advance letter will be sent before contacting the individual for an interview.
ᵇ Focus group participants will take part in a brief screening call or interview, participate in the focus group, and receive a reminder call and letter before the focus group.
ᶜ Focus group nonparticipants include individuals who refuse to participate, are ineligible, or do not show up for the focus group. These individuals will participate in a brief screening call or interview.

Dated: July 8, 2014.
Audrey Rowe,
FNS Administrator, Food and Nutrition Service.

[FR Doc. 2014-16586 Filed 7-14-14; 8:45 am]

BILLING CODE 3410-30-P